DEPARTMENT OF THE INTERIOR

Performance Review Board Appointments

AGENCY: Department of the Interior.

ACTION: Notice of Performance Review Board Appointments.

SUMMARY: This notice provides the names of individuals who have been appointed to serve as members of the Department of the Interior Performance Review Board.

DATES: These appointments are effective on November 18, 2003.

FOR FURTHER INFORMATION CONTACT: Carolyn Cohen, Director of Personnel Policy, Office of the Secretary, Department of the Interior, 1849 C Street, NW., Washington, DC 20240, Telephone Number: (202) 208-6761.

2003 SES Performance Review Board

The following individuals have been appointed to serve on the Department of Interior 2003 Performance Review Board.

Kevin Adams—Assistant Director—Law Enforcement Services

Carol Aten—Chief, Office of Administrative Policy and Services

Mary Jo Baedecker—Chief Scientist for Hydrology

Henri Bisson State—Director—Alaska

William Carswell—Regional Hydrologist

Walter D. Cruickshank—Deputy Director, Minerals Management Service

Elena Daly—Director, National Landscape Conservation System

John DeDona—Deputy Assistant Inspector General for Investigations

Kimberly Elmore-Butterfield—Deputy Assistant Inspector General for Audits

Michael Gabaldon—Director, Policy Management

Jerold Gidner—Director, Policy, Planning and Performance

Rick Gold—Regional Director “ Lower Colorado

Linda Gundersen—Chief Scientist for Geology Eastern Region

Pamela K. Haze—Deputy Director, Office of Budget

Matthew J. Hogan—Deputy Director

Fay Iudicello—Director, Office of Executive Secretariat and Regulatory Affairs

Marilyn Johnson—Human Capital Management Project Director

Al Klein Regional—Director “ Western Regional Coordinating Center

Robert LaBelle—Deputy Associate Director Offshore

Elaine Marquis-Brong—State Director, Oregon

Matthew McKeown—Associate Solicitor (Land and Water Resources)

Thomas Moyle—Deputy Assistant Inspector General for Administrative Service and Information Management

Donald Murphy—Deputy Director

Glenda Owens—Deputy Director

Mamie Parker—Regional Director “ Hadley

Lynn Peterson—Regional Solicitor (Portland)

William Rinne—Director, Operations

Denise E. Sheehan—Assistant Director “ Budget, Planning and Human Resources

Margaret Sibley—Senior Advisor

George T.C. Skibine—Director, Office of Indian Gaming Management

J. Lynn Smith—Human Resources Program Manager

Michael Soukup—Associate Director “ Natural Resource Stewardship and Science

Willie R. Taylor—Director, Office of Environmental Policy Compliance

Karen Taylor-Goodrich—Associate Director “ Resource and Visitor Protection

George Triebsch—Associate Director “ Policy and Management Improvement

Michael J. Trujillo—Deputy Assistant Secretary for Human Resources & Workforce Diversity

Kathleen Wheeler—Special Assistant

Michael Wood—Assistant Inspector General for Administrative Service and Information Management

Dated: November 12, 2003.
David Anderson,
Associate Director of Personnel Policy.

[FR Doc. 03-28726 Filed 11-17-03; 8:45 am]

BILLING CODE 4310-10-P